SMALL BUSINESS ADMINISTRATION

Data Collection Available for Public Comments and Recommendations

ACTION: 60 Day Notice and request for comments.

SUMMARY: In accordance with the Paperwork Reduction Act of 1995, this notice announces the Small Business Administration's intentions to request approval on a new and/or currently approved information collection.

DATES: Submit comments on or before April 15, 2013.

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street, 8th Floor, Washington, DC 20416.

FOR FURTHER INFORMATION CONTACT: Sandra Johnston, Program Analyst, mailto:202-205-7507%20%20gail.hepler@sba.gov, 202-205-7528, sandra.johnston@sba.gov, Curtis B. Rich, Management Analyst, 202-205-7030, curtis.rich@sba.gov;

SUPPLEMENTARY INFORMATION: Small Business Administration (SBA) regulations require that we determine that a participating Certified Development Company's Non-Bank Lender Institutions' or Microlender's management, ownership, etc. is of “good character”. To do so requires the information requested on the Form 1081. This form also provides data used to determine the qualifications and capabilities of the lenders key personnel.

Title: ”Statement of Personal History.”

Description of Respondents: Small Business Lending Companies.

Form Number: 1081.

Annual Responses: 243.

Annual Burden: 122.

SUPPLEMENTARY INFORMATION: Under Small Business Administration (SBA) Dealer Floor Plan Pilot initiative SBA can now guarantee floor plan lines of credit made by participating lenders. The information collected from these lenders helps SBA to determine whether and to what extent the lines are revolving, as well as to develop more efficient and effective subsidy model for revolving loans.

Title: ”Lenders Disbursement & Collection Report.”

Description of Respondents: Small Business Lending Companies.

Form Number: 1502R.

Annual Responses: 750.

Annual Burden: 180.

ADDRESSES: Send all comments regarding whether this information collection is necessary for the proper performance of the function of the agency, whether the burden estimates are accurate, and if there are ways to minimize the estimated burden and enhance the quality of the collection, to Brenda Washington, Senior Program Analyst Office of HUBZone, Small Business Administration, 409 3rd Street, 8th Floor, Washington, DC 20416.

FOR FURTHER INFORMATION CONTACT: Brenda Washington, Office of HUBZone, mailto:202-205-7507%20%20gail.hepler@sba.gov, 202-205-7663, brenda.washington@sba.gov.; Curtis B. Rich, Management Analyst, 202-205-7030, curtis.rich@sba.gov.

SUPPLEMENTARY INFORMATION: The purpose of collecting this data is to perform economic impact analysis of the HUBZone Program. With the data collected, the Program will be able to measure the effect of the jobs creation and capital investment of the participating firms on various economic activity indicators of the designed communities such as unemployment rate, income and poverty rate.

Title: ”HUBZone Application Data Update.”

Description of Respondents: Small Business Concerns.

Form Number: 2298.

Annual Responses: 500.

Annual Burden: 250.

ADDRESSES: Send all comments regarding whether this information collection is necessary for the proper performance of the function of the agency, whether the burden estimates are accurate, and if there are ways to minimize the estimated burden and enhance the quality of the collection, to Rachel Newman-Karton, Program Analyst, Office of Small Business Development Centers, Small Business Administration, 409 3rd Street, 6th Floor, Washington, DC 20416.

FOR FURTHER INFORMATION CONTACT: Rachel Newman-Karton, Program Analyst, mailto:202-205-7507%20%20gail.hepler@sba.gov202-619-1816Rachel.newman@sba.gov, Curtis B. Rich, Management Analyst, 202-205-7030 curtis.rich@sba.gov.

SUPPLEMENTARY INFORMATION: The Small Business Administration's (SBA) resource partners are required under their cooperative agreement with the agency to provide business management training to small business owners and nascent owners. This information is needed to monitor and access the quality of training provided by these resource partners. Respondents are attendees at their training sessions.

Title: ”Training Program Evaluation.”

Description of Respondents: Small Business Recourse Partners.

Form Number: 20.

Annual Responses: 200,000.

Annual Burden: 40,000.

Curtis Rich,
Management Analyst.

[FR Doc. 2013-03222 Filed 2-12-13; 8:45 am]

BILLING CODE P